DEPARTMENT OF AGRICULTURE

Forest Service

Secure Rural Schools Resource Advisory Committees

AGENCY: Forest Service.

ACTION: Notice of Intent to Establish Secure Rural Schools Resource Advisory Committees.

SUMMARY: The United States Department of Agriculture (USDA) intends to establish the following: The Rocky Mountain Resource Advisory Committee (RAC) in Rocky Mountain Region (R2) by consolidating Bighorn, Medicine-Bow Routt, Shoshone, Grand Mesa Uncompahgre Gunnison and Pike-San Isabel RACs; the Northern Utah RAC in the Intermountain Region (R4) by consolidating the Ashley RAC and the Uinta Wasatch Cache RAC; the Mendo-Lake County RAC in the Pacific Southwest Region (R5) by consolidating the Mendocino RAC and Lake County RAC; the Gifford Pinchot RAC in the Pacific Northwest Region (R6) by consolidating the North Gifford Pinchot RAC and the South Gifford Pinchot RAC; and the Northern Wisconsin RAC in the Eastern Region (R9) by consolidating the Chequamegon RAC and Nicolet RAC. Secure Rural Schools (SRS) RACs pursuant to the Secure Rural Schools and Community Self-Determination Act (the Act), as amended, most recently by the Agricultural Improvement Act of 2018 (Pub. L. 115-334). The SRS RACs will operate in compliance with the Federal Advisory Committee Act (FACA). The purpose of the SRS RACs is to improve collaborative relationships among people who use and care for National Forests. The Secretary has determined that the work of the SRS RACs are in the public's interest and relevant to the duties of the Department of Agriculture. The SRS RACs are statutory committees. Additional information concerning the SRS RACs can be found by visiting the SRS RACs website at: http://www.fs.usda.gov/pts/.

FOR FURTHER INFORMATION CONTACT: Jonathan Word, National Partnership Coordinator, Forest Service Secure Rural Schools Program, by telephone at (928) 699-5016 or by email at jonathan.a.word@usda.gov. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of FACA, the Secretary of Agriculture intends to establish SRS RACs to provide advice and recommendations to the Forest Service concerning projects and funding consistent with SRS Title II of the Act. The duties of SRS RACs include monitoring projects, advising the Secretary on the progress and results of monitoring efforts, and making recommendations to the Forest Service for any appropriate changes or adjustments to the projects being monitored by the SRS RACs.

SRS RACs Membership

The SRS RACs will be comprised of no more than 15 members, no fewer than 9 members in accordance with the Agriculture Improvement Act of 2018; hereafter, 2018 Farm Bill. Members will be approved by the Secretary of Agriculture except in Arizona and Montana where they will be approved by the Regional Forester and each will serve a 4-year term. SRS RACs membership will be balanced in terms of the points of view represented and functions to be performed. The SRS RACs shall include representation from the following interest areas:

(1) Five persons who represent:

(a) Organized Labor or Non-Timber Forest Product Harvester Groups,

(b) Developed Outdoor Recreation, Off Highway Vehicle Users, or Commercial Recreation Activities,

(c) Energy and Mineral Development, or Commercial or Recreational Fishing Interests,

(d) Commercial Timber Industry, or

(e) Federal Grazing or Other Land Use Permits, or Represent NonIndustrial Private Forest Land Owners, within the area for which the committee is organized.

(2) Five persons who represent:

(a) Nationally Recognized Environmental Organizations,

(b) Regionally or Locally Recognized Environmental Organizations,

(c) Dispersed Recreational Activities,

(d) Archaeological and Historical Interests, or

(e) Nationally or Regionally Recognized Wild Horse and Burro Interest Groups, Wildlife or Hunting Organizations, or Watershed Associations.

(3) Five persons who represent:

(a) State Elected Office (or a designee),

(b) County or Local Elected Office,

(c) American Indian Tribes within or adjacent to the area for which the committee is organized,

(d) Area School Officials or Teachers, or

(e) Affected Public at Large.

Of these members, one will become the Chairperson who is recognized for their ability to lead a group in a fair and focused manner and who has been briefed on the mission of the RAC. A chairperson is selected by a majority of RAC members. The Committee will meet on an annual basis or as needed and determined by the Agency.

In the event that a vacancy arises, the Designated Federal Officer (DFO) may fill the vacancy in the manner in which the original appointments were made. In accordance with the SRS Act, members of the SRS RAC shall serve without compensation. SRS RAC members may be allowed travel and per diem expenses for attendance at committee meetings, subject to approval of the DFO responsible for administrative support to the SRS RAC.

Equal opportunity practices in accordance with USDA policies shall be followed in all appointments to the SRS RACs. To ensure that the recommendations of the SRS RACs have taken into account the needs of the diverse groups served by USDA, membership will, to the extent practicable, include individuals with demonstrated ability to represent all racial and ethnic groups, women and men, and persons with disabilities.

Dated: September 24, 2019.
Cikena Reid,
USDA Committee Management Officer.

[FR Doc. 2019-21818 Filed 10-4-19; 8:45 am]

BILLING CODE 3411-15-P